DEPARTMENT OF AGRICULTURE

Forest Service

Alpine County Resource Advisory Committee

AGENCY: Forest Service, USDA.

ACTION: Notice of meeting.

SUMMARY: The Alpine County Resource Adivisory Committee will meet in Markleeville, CA. The committee is authorized under the Secure Rural Schools and Community Self-Determination Act (Pub. L. 112-141) (the Act) and operates in compliance with the Federal Advisory Committee Act. The purpose of the committee is to improve collaborative relationships and to provide advice and recommendations to the Forest Service concerning projects and funding consistent with title II of the Act. The meeting is open to the public. The purpose of the meeting is to review and recommend projects authorized under title II of the Act.

DATES: The meeting will be held September 10th 2012 at 6 p.m.

ADDRESSES: The meeting will be held at the Alpine Early Learning Center, 100 Foothill Road, Markleeville, CA.

Written comments may be submitted as described under Supplementary Information. All comments, including names and addresses when provided, are placed in the record and are available for public inspection and copying. The public may inspect comments received at the Carson Ranger District, 1536 S. Carson St, Carson City, NV. Please call ahead to 775-884-8140 to facilitate entry into the building to view comments.

FOR FURTHER INFORMATION CONTACT: Daniel Morris, RAC Coordinator, Carson Ranger District, 775-884-8140, danielmorris@fs.fed.us.

Individuals who use telecommunication devices for the deaf (TDD) may call the Federal Information Relay Service (FIRS) at 1-800-877-8339 between 8 a.m. and 8 p.m., Eastern Standard Time, Monday through Friday.

SUPPLEMENTARY INFORMATION: The following business will be conducted: (1) Review and recommend funding allocation for proposed projects for 2012 funding (2) Public Comment. Anyone who would like to bring related matters to the attention of the committee may file written statements with the committee staff before or after the meeting. Written comments and requests for time for oral comments must be sent to 1536 S. Carson St., Carson City, NV. 89701, or by email to danielmorris@fs.fed.us, or via facsimile to 775-884-8199. A summary of the meeting will be posted at https://fsplaces.fs.fed.us/fsfiles/unit/wo/secure_rural_schools.nsf within 21 days of the meeting.

Meeting Accommodations: If you require sign language interpreting, assistive listening devices or other reasonable accommodation for access to the meeting please request this in advance by contacting the person listed in the section titled FOR FURTHER INFORMATION CONTACT. All reasonable accommodation requests are managed on a case by case basis.

Dated: August 9, 2012.
David M. Palmer,
Acting District Ranger.

[FR Doc. 2012-20015 Filed 8-14-12; 8:45 am]

BILLING CODE 3410-11-P